DEPARTMENT OF ENERGY

Federal Energy Regulatory Commission

Notice of Application and Applicant Prepared Environmental Assessment Accepted for Filing; Requesting Interventions and Protests; Establishing Procedural Schedule and Final Amendment Deadline; Requesting Comments, Final Terms and Conditions, Recommendations and Prescriptions; Requesting Reply Comments

February 25, 2000.

Take notice that the following license application has been filed with the Commission. An Applicant-Prepared Environmental Assessment (APEA) for the Upper and Middle Dams Storage Project, which includes the project below, has been filed with the Commission. Both documents are available for public inspection.

a. Type of Application: Original Major License.

b. Project No.: 11834-000 ¹

¹ On August 1, 1994, the Upper and Middle Dams Storage Project (UL94-1) was the subject of a jurisdictional order issued by the Commission, which required the project owner to prepare and submit an Application for Initial License to the Commission. The Commission has designated the Upper and Middle Dams Storage Project as P-11834-000.

c. Dated filed: December 23, 1999.

d. Applicant: FPL Energy Maine Hydro LLC.

e. Name of Project: Upper and Middle Dams Storage Project.

f. Location: The project is located on the Rapid River at the headwaters of the Androscoggin River in Oxford and Franklin Counties, Maine. The project would not utilize any Federal lands or facilities.

g. Filed Pursuant to: Federal Power Act 16 USC 791(a)-825(r).

h. Applicant Contact: Frank Dunlap, Senior Environmental Coordinator, FPL Energy Maine Hydro LLC, 100 Middle Street, Portland, ME 04101 (207) 771-3534.

i. FERC Contact: Any questions on this notice should be addressed to Mark Pawlowski, E-mail address mark.pawlowski@ferc.fed.us, or telephone (202) 219-2795.

j. Deadline for filing motions to intervene, protests, comments, final terms and conditions, recommendations, and prescriptions: 60 days from the issuance date of this notice.

All documents (original and eight copies) should be filed with: David P. Boergers, Secretary, Federal Energy Regulatory Commission, 888 First St. NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, the intervenor must also serve a copy of the document on that resource agency.

k. Status of Environmental Analysis: On September 25, 1995, the Director, Office of Hydropower Licensing, approved FPL Energy Maine Hydro LLC's (FPLE Maine) use of the Alternative Licensing Process. Scoping, pursuant to the National Environmental Policy Act of 1969, as amended, for the project was conducted through scoping documents issued in November 1995 and February 1999, and in public scoping meetings on December 13, 1995. On August 28, 1998, the Upper Androscoggin River Storage Settlement Agreement was signed by the parties. The draft license application and APEA were distributed by the applicant for comment on September 1, 1999.

The Commission staff has reviewed the license application and APEA and has determined that the application is acceptable for processing and no additional information or studies are needed to prepare the Commission's environmental assessment. Comments, as indicated above, are being requested from interested parties. The applicant will have 45 days following the end of this period to respond to those comments, or may elect to seek a waiver of this deadline.

1. Description of Project: The proposed project consists of two dams (Upper Dam and Middle Dam): (1) the Upper Dam consists of: (a) 200-foot-long and 25-foot-high concrete crib; (b) a 15,740-acre impoundment (Mooselookmeguntic Lake) at full pond elevation 1,468 feet U.S. Geological Survey (USGS) Datum; (c) a gatehouse containing 17 gates, ranging from 10 feet high and 6 feet wide, and 10.5 feet high and 15 feet wide; (d) two earthen dikes that extend 300 feet to the north and 1,000 feet at the south of the gatehouse; and (e) appurtenant facilities. (2) the Middle Dam consists of: (a) 244-foot-long and 22-foot-high concret crib; (b) a 7,470-acre impoundment (Richardson Lake) at full pond elevation 1,450 feet USGS Datum; (c) a 560-foot-long earth embankment situation to the north and a 200-foot-long embankment situated to the south of the gatehouse structure; (d) a gatehouse structure containing 20 gates, ranging from 10 feet high and 7 feet wide, and 12 feet high and 15 feet wide; and (e) appurtenant facilities. Two-thousand feet to the southeast of Middle Dam is Black Cat Dike, which is a 180-foot-long earthen embankment.

The Upper and Middle Dams Storage Project is a water storage facility with no generating facilities.

m. Locations of the Application: A copy of the application is available for inspection and reproduction at the Commission's Public Reference Room, located at 888 First Street, NE, Room 2A, Washington, DC 20426, or by calling (202) 208-1371. The application may be viewed on the web at www.ferc.fed.us/online/rims.htm (call (202) 208-2222 for assistance). A copy is also available for inspection and reproduction at the address in item h above.

n. Protests or Motions to Intervene—Anyone may submit a protest or a motion to intervene in accordance with the requirements of the Rules of Practice and Procedures, 18 CFR 385.210, .211, .214. In determining the appropriate action to take, the Commission will consider all protests filed, but only those who file a motion to intervene in accordance with the Commission's Rules may become a party to the proceeding. Any protests or motions to intervene must be received on or before the specified deadline date for the particular application and APEA.

o. Filing and Service of Responsive Documents—The Commission is requesting comments, recommendations, terms and conditions, prescriptions, and reply comments.

The Commission directs, pursuant to 18 CFR 4.34(b) of the regulations, that all comments, recommendations, terms and conditions, and prescriptions concerning the application and APEA be filed with the Commission within 60 days from the issuance date of this notice. All reply comments must be filed with the Commission within 105 days from the date of this notice.

Anyone may obtain an extension of time for these deadlines from the Commission only upon a showing of good cause or extraordinary circumstances in accordance with 18 CFR 385.2008.

p. All filings must: (1) bear in all capital letters the title “PROTEST,” “MOTION TO INTERVENE,” “COMMENTS,” “RECOMMENDATIONS,” “TERMS AND CONDITIONS,” “PRESCRIPTIONS,” or “REPLY COMMENTS,” (2) set forth in the heading the name of the applicant and the project number of the application and APEA to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application and APEA directly from the applicant. Any of these documents must be filed by providing the original and the number of copies required by the Commission's regulations to: Secretary, Federal Energy Regulatory Commission, 888 First Street, NE, Washington, DC 20426. An additional copy must be sent to: Director, Division of Environmental Review, Office of Energy Projects, Federal Energy Regulatory Commission, at the above address. Each filing must be accompanied by proof of service on all persons listed on the service list prepared by the Commission in this proceeding, in accordance with 18 CFR 4.34(b) and 385.2010.

David P. Boergers,
Secretary.

[FR Doc. 00-4993 Filed 3-1-00; 8:45 am]

BILLING CODE 6717-01-M